DEPARTMENT OF ENERGY

Federal Energy Regulatory Commission

Combined Notice of Filings #1

Take notice that the Commission received the following electric corporate filings:

Docket Numbers: EC13-116-000.

Applicants: Chestnut Flats Wind, LLC, Chestnut Flats Lessee, LLC.

Description: Application of Chestnut Flats Wind, LLC and Chestnut Flats Lessee, LLC for Authorization under Section 203 of the Federal Power Act and Requests for Waivers, Confidential Treatment and Expedited Consideration.

Filed Date: 6/11/13.

Accession Number: 20130611-5108.

Comments Due: 5 p.m. ET 7/2/13.

Take notice that the Commission received the following exempt wholesale generator filings:

Docket Numbers: EG13-42-000.

Applicants: SWG Arapahoe, LLC.

Description: Self-Certification of SWG Arapahoe, LLC as an Exempt Wholesale Generator.

Filed Date: 6/10/13.

Accession Number: 20130610-5103.

Comments Due: 5 p.m. ET 7/1/13.

Take notice that the Commission received the following electric rate filings:

Docket Numbers: ER10-2721-004.

Applicants: El Paso Electric Company.

Description: Non-Material Change in Status Report of El Paso Electric Company.

Filed Date: 6/11/13.

Accession Number: 20130611-5088.

Comments Due: 5 p.m. ET 7/2/13.

Docket Numbers: ER10-3077-002; ER10-3075-002; ER10-3076-002 ER10-3074-002; ER10-3071-002; ER10-3079-005; ER10-3078-001; ER12-126-007; ER11-2539-002; ER11-2540-002; ER11-2542-002.

Applicants: CalPeak Power LLC, CalPeak Power—Panoche LLC, CalPeak Power—Vaca Dixon LLC, CalPeak Power—Enterprise LLC, CalPeak Power—Border LLC, Tyr Energy, LLC, Commonwealth Chesapeake Company, LLC, Trademark Merchant Energy, LLC, Plains End, LLC, Plains End II, LLC, Rathdrum Power, LLC.

Description: Notice of Non-Material Change in Status for the New Tyr MBR Entities.

Filed Date: 6/10/13.

Accession Number: 20130610-5132.

Comments Due: 5 p.m. ET 7/1/13.

Docket Numbers: ER13-1652-000.

Applicants: Midcontinent Independent System Operator, Inc.

Description: 06-10-2013 SA 2443 Term Duke-Energy-Gestamp Wind to be effective 8/9/2013.

Filed Date: 6/10/13.

Accession Number: 20130610-5081.

Comments Due: 5 p.m. ET 7/1/13.

Docket Numbers: ER13-1653-000.

Applicants: FirstEnergy Solutions Corp.

Description: Revised Affiliate Sales to be effective 3/1/2013.

Filed Date: 6/10/13.

Accession Number: 20130610-5082.

Comments Due: 5 p.m. ET 7/1/13.

Docket Numbers: ER13-1654-000.

Applicants: PJM Interconnection, L.L.C.

Description: Revisions to the OATT & OA re Up-to-Congestion & Virtual Transactions to be effective 8/9/2013.

Filed Date: 6/10/13.

Accession Number: 20130610-5095.

Comments Due: 5 p.m. ET 7/1/13.

Docket Numbers: ER13-1655-000.

Applicants: PJM Interconnection, L.L.C.

Description: Revisions to the OATT Att Q to implement a credit screen for up-to-congestion to be effective 9/1/2013.

Filed Date: 6/10/13.

Accession Number: 20130610-5111.

Comments Due: 5 p.m. ET 7/1/13.

Docket Numbers: ER13-1655-000.

Applicants: PJM Interconnection, L.L.C.

Description: Errata to Transmittal Letter in Docket No. ER13-1655-000 to be effective N/A.

Filed Date: 6/11/13.

Accession Number: 20130611-5000.

Comments Due: 5 p.m. ET 7/2/13.

Docket Numbers: ER13-1656-000.

Applicants: The Narragansett Electric Company.

Description: Interconnection Agreement Between Narragansett Electric Co. and Blackstone to be effective 8/11/2013.

Filed Date: 6/11/13.

Accession Number: 20130611-5039.

Comments Due: 5 p.m. ET 7/2/13.

Docket Numbers: ER13-1657-000.

Applicants: New England Power Company.

Description: Interconnection Agreements Between NEP and Wheelabrator Saugus to be effective 8/11/2013.

Filed Date: 6/11/13.

Accession Number: 20130611-5057.

Comments Due: 5 p.m. ET 7/2/13.

Docket Numbers: ER13-1658-000.

Applicants: Virginia Electric and Power Company.

Description: Notice of Cancellation of Virginia Electric and Power Company of Generator Interconnection and Operating Agreement with Industrial Power Generating Corporation.

Filed Date: 6/11/13.

Accession Number: 20130611-5072.

Comments Due: 5 p.m. ET 7/2/13.

Docket Numbers: ER13-1659-000.

Applicants: PJM Interconnection, L.L.C.

Description: Revisions to the PJM Tariff and Operating Agreement re CFTC Exemptions to be effective 8/12/2013.

Filed Date: 6/11/13.

Accession Number: 20130611-5091.

Comments Due: 5 p.m. ET 7/2/13.

Docket Numbers: ER13-1660-000.

Applicants: PJM Interconnection, L.L.C.

Description: Original Service Agreement No. 3572; Queue No. Y2-066 to be effective 5/14/2013.

Filed Date: 6/11/13.

Accession Number: 20130611-5093.

Comments Due: 5 p.m. ET 7/2/13.

Docket Numbers: ER13-1661-000.

Applicants: NEXTENERGY SERVICES LLC.

Description: Petition for Acceptance of Initial Tariff, Waivers and Blanket Authority to be effective 8/10/2013.

Filed Date: 6/11/13.

Accession Number: 20130611-5099.

Comments Due: 5 p.m. ET 7/2/13.

Take notice that the Commission received the following electric securities filings:

Docket Numbers: ES13-26-000.

Applicants: Central Maine Power Company.

Description: Supplemental filing Exhibits in support of May 28, 2013 Section 204 Application of Central Maine Power Company.

Filed Date: 6/7/13.

Accession Number: 20130607-5072.

Comments Due: 5 p.m. ET 6/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2013.
Nathaniel J. Davis, Sr.,
Deputy Secretary.

[FR Doc. 2013-14572 Filed 6-18-13; 8:45 am]

BILLING CODE 6717-01-P